DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 26, 2024 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: School Breakfast Program.

OMB Control Number: 0584-0012.

Summary of Collection: Section 4 of the Child Nutrition Act of 1966 (CNA) (Pub. L. 111-296) authorizes the School Breakfast Program (SBP) 7 CFR part 220, as a nutrition assistance program. Section 10 of the CNA requires the Secretary of Agriculture to prescribe such regulations as deemed necessary to carry out Child Nutrition Programs authorized under the CNA. The CNA authorizes payments to the States to assist them to initiate, maintain or expand nonprofit breakfast programs in the schools. FNS published a final rule, “Child Nutrition Programs: Meal Patterns Consistent with the 2020-2025 Dietary Guidelines for Americans” (RIN 0584-AE88) in the Federal Register on April 25, 2024 (89 FR 31962) which introduces new recordkeeping requirements for the SBP. Under the SBP and the National School Lunch Program (NSLP), FNS is required to develop school nutrition requirements that are consistent with the goals of the most recent Dietary Guidelines for Americans. In addition, schools are required by regulation to comply with the meal requirements. This rulemaking finalizes long-term school nutrition requirements based on the most recent Dietary Guidelines for Americans and feedback from Child Nutrition Program stakeholders. The final rule strengthens the Buy American provision which requires the purchase of domestic commodities or products “to the maximum extent practicable,” maintains circumstances where limited exceptions to those requirements are permitted and requires school food authorities (SFAs) to include the Buy American provisions in procurement procedures, solicitations, food contracts, and awarded contracts. The final rule allows SFAs and schools that are tribally operated, operated by the Bureau of Indian Education, and that serve primarily American Indian or Alaska Native children to serve vegetables to meet the grains requirements. In addition, the final rule updates school meal nutrition requirements, including implementing quantitative limits for the following leading sources of added sugars in school breakfast meals: breakfast cereals, yogurts, and flavored milks. The rulemaking will also implement a dietary specification limiting added sugars to less than 10 percent of calories per week in the school breakfast programs. This means that SFAs will need to do additional development and editing of their menus.

FNS is publishing a 30-Day Notice for this final rule submission because the agency changed how the requirements and burden changes were submitted for approval in the final rule from what was used in the proposed rule. Due to uncertain timing of the rules in conjunction with the renewal of OMB Control Number 0584-0006, FNS decided to request a new OMB control number for the collections related to the rule and later merge them into the existing information collections that are related to these requirements. By the time of the final rule, however, OMB Control Number 0584-0006 was renewed, so FNS decided to switch to revisions of the existing collections, rather than requesting a new OMB control number. OMB reviewed the proposed submission as “filed with comment” on March 21, 2023, and assigned the preliminary OMB Control Number 0584-0679 to the collection. However, because FNS decided to submit revisions to the existing information collections instead, this preliminary OMB control number was not used for the final rule submission.

Need and Use of the Information: The revisions to this ongoing information collection are due to the final rule, “Child Nutrition Programs: Meal Patterns Consistent with the 2020-2025 Dietary Guidelines for Americans”, which amends Program regulations and introduces new recordkeeping requirements into this collection. Staff at the SFA level must maintain the information required by this rule. This final rule encompasses both mandatory and required to obtain or retain a benefit information requirements. The SFAs are responsible for maintaining documentation and records to demonstrate their compliance with the Buy American provisions, the flexibility for SFAs or its schools which are tribally operated, operated by the Bureau of Indian Education, or serve primarily American Indian or Alaska Native students to serve vegetables in place of grains, and to maintain menu records that reflect the updated nutrition specifications in accordance with the final rule. FNS will use this information to ensure compliance with the final rule requirements.

Description of Respondents: State, Local, or Tribal Government.

Number of Respondents: 105,700.

Frequency of Responses: Recordkeeping: On occasion; Annually, Other (every 3 years).

Total Burden Hours: 4,036,508.

Rachelle Ragland-Greene,
Departmental Information Collection Clearance Officer.

[FR Doc. 2024-19140 Filed 8-26-24; 8:45 am]

BILLING CODE 3410-30-P